DEPARTMENT OF COMMERCE

Census Bureau

Agency Information Collection Activities; Submission to the Office of Management and Budget (OMB) for Review and Approval; Comment Request; Generic Clearance for Emergency Economic Information Collections

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 29, 2024 during a 60-day comment period. This notice allows for an additional 30 days for public comments.

Agency: U.S. Census Bureau, Commerce.

Title: Generic Clearance for Emergency Economic Information Collections.

OMB Control Number: 0607-1019.

Form Number(s): Various.

Type of Request: Regular submission, Request for an Extension, without Change, of a Currently Approved Collection.

Number of Respondents: 300,000.

Average Hours Per Response: 10 minutes.

Burden Hours: 50,000.

Needs and Uses: The U.S. Census Bureau plans to request a 3-year extension of the Office of Management and Budget (OMB) approval for the Generic Clearance for Emergency Economic Information Collections (EEIC). The EEIC provides the quick turn-around necessary for conducting emergency economic information collections in response to unanticipated international, national, or regional declared emergencies or events of national interest arising as a direct result of declared emergencies having a significant economic impact on U.S. businesses and/or state or local governments. The purpose of the collections is to gauge and monitor the economic impact of such events on U.S. businesses or organizations and state or local governments.

Emergencies, once declared by the authorized state or federal official or entity, that could trigger the need for an EEIC may have global, national, or regional impact on U.S. businesses and governments, and include the following examples:

—Pandemic or other health emergency

—Natural or manmade disaster

—Acts of war or terrorism

—Civil unrest or insurrection

Other events of national interest arising as a direct result of declared emergencies may also have a significant impact on U.S. businesses or governments. General categories of national interest events arising as a direct result of declared emergencies which could trigger the need for an EEIC are:

—Economic crises

—Financial crises

—International geo-political instabilities

—Resource shortages

—Cyberterrorism

—New legislation passed as a direct result of a declared emergency

EEIC questions may be included as supplemental questions on existing Census Bureau surveys or conducted as new special-purpose surveys. The data will be collected by paper or electronic instruments, depending on the survey or program.

EEIC questions will be chosen from a pretested Question Bank. For some subjects, the Question Bank includes specific questionnaire content. In other cases, the Question Bank includes topics which will then be addressed with questions designed to meet data needs that arise during a future unknown event. Some questions have been cognitively tested and should be considered final; some may require testing for final wording. Questions that may require testing and refinement are annotated in the Question Bank. As the Question Bank matures with new or revised content, the Census Bureau will resubmit the bank for review.

Prior to adding EEIC questions to any survey, the Census Bureau will consult with OMB and submit a request for approval, allowing between 3 and 10 business days for OMB action. Over the existing period of clearance, the EEIC Generic Clearance was used to clear supplemental questions which were added to existing surveys, responsive to both recession conditions resulting from the COVID 19 Pandemic and various severe weather events which occurred in 2022.

As data collections will be tailored to the emergency, users of the data may vary, but may include: federal, state, or local officials charged with decision- making during the emergency; business leaders and policymakers wishing to develop plans to ameliorate the effects of the emergency; academics and members of the press wishing to study and disseminate information about the emergency; and the public. The data collected will help us understand how and why data we collect in our ongoing surveys may be affected by the emergency, as well as allow us to disseminate data as part of existing releases, new releases, or experimental releases.

Frequency: On occasion.

Respondent's Obligation: Voluntary.

Legal Authority: Title 13 U.S.C., Sections 131, 161 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1019.

Sheleen Dumas,
Department PRA Clearance Officer, Office of the Under Secretary for Economic Affairs, Commerce Department.

[FR Doc. 2024-17290 Filed 8-5-24; 8:45 am]

BILLING CODE 3510-07-P